DEPARTMENT OF COMMERCE

National Oceanic and Atmospheric Administration

RIN 0648-XE808

Record of Decision for the Kalamazoo River Natural Resources Damage Assessment: Final Restoration Plan and Programmatic Environmental Impact Statement

AGENCY: National Marine Fisheries Service (NMFS), National Oceanic and Atmospheric Administration (NOAA), Commerce.

ACTION: Notice of availability of a Record of Decision.

SUMMARY: The NOAA National Marine Fisheries Service (NMFS) announces the availability of the Record of Decision (ROD) for the Kalamazoo River Natural Resources Damage Assessment: Final Restoration Plan and Programmatic Environmental Impact Statement (PEIS). The NMFS Office of Habitat Conservation Director signed the ROD on November 29, 2016, which constitutes the agency's final decision.

ADDRESSES: Patricia A. Montanio, Director, Office of Habitat Conservation, National Oceanic and Atmospheric Administration, 1315 East-West Highway, Silver Spring, MD 20910.

FOR FURTHER INFORMATION CONTACT: Julie Sims, NOAA Restoration Center, 4840 South State Road, Ann Arbor, Michigan 48108-9719.

SUPPLEMENTARY INFORMATION: The Kalamazoo River Trustees prepared the Final Restoration Plan and Programmatic Environmental Impact Statement for Restoration Resulting from the Kalamazoo River Natural Resource Damage Assessment (Final RP/PEIS). The RP/PEIS was prepared under the authority of Comprehensive Environmental Response, Compensation, and Liability Act (CERCLA) of 1980 and was also developed to comply with the Federal agency decision-making requirements of the National Environmental Policy Act of 1969 (NEPA) and NOAA's environmental review procedures (NOAA Administrative Order 216-6, as preserved by NAO 216-6A). The document was designed to solicit public opinion on a proposed restoration program for the Kalamazoo River natural resource damage assessment (NRDA). This ROD documents the Trustees' decision to select Alternative C and conduct restoration within the Kalamazoo River watershed (described in the RP/PEIS in Section 3.2.3). This alternative would consist of a mixture of aquatic habitat restoration, riparian and wetland habitat restoration, dam removal for river and fish passage restoration, and habitat conservation actions in the Kalamazoo River watershed, including potential projects in tributaries. Through this alternative, the Trustees could conduct restoration actions in locations that have not been affected by PCBs, including projects in tributaries other than Portage Creek, and in remediated areas that were previously contaminated with PCBs. This alternative also includes the two specific projects to restore aquatic connectivity on the Kalamazoo River by removing dams in and near Otsego, Michigan. The Trustees selected this alternative since it allows the most flexibility to meet the Trustees' restoration objectives, both in terms of geographic location and timing. The scale of restoration activity that will be implemented by the Trustees under the RP/PEIS will depend upon the resolution of natural resource damage claims with the parties responsible for poly-chlorinated biphenyl releases. Under CERCLA, settlements received by the Trustees, either through negotiated or adjudicated processes, must be used to restore, rehabilitate, replace, and/or acquire the equivalent of those natural resources that have been injured. The Final RP/PEIS will guide future Trustee decision-making regarding the expenditure of settlements and the implementation of restoration activities.

The NOAA RC is not soliciting comments on the PEIS but will consider any comments submitted that would assist us in preparing future NEPA documents. An electronic copy of the PEIS is available at: https://darrp.noaa.gov/sites/default/files/case-documents/Final_Restoration_Plan_and_Programmatic_Environmental_Impact_Statement_for_Restoration_Resulting_from_the_Kalamazoo_River_Natural_Resource_Damage_Assessment.pdf. Electronic correspondence regarding it can be submitted to rc.compliance@noaa.gov. Otherwise, please submit any written comments via U.S. mail to the responsible official named in the ADDRESSES section.

Dated: December 7, 2016.
Carrie Selberg,
Deputy Director, Office of Habitat Conservation, National Marine Fisheries Service.

[FR Doc. 2016-29792 Filed 12-12-16; 8:45 am]

BILLING CODE 3510-22-P